ENVIRONMENTAL PROTECTION AGENCY

40 CFR Part 52

[R08-ND-2008-0001; FRL-8892-7]

Approval and Promulgation of Air Quality Implementation Plans; North Dakota; Update to Materials Incorporated by Reference

AGENCY: Environmental Protection Agency (EPA).

ACTION: Final rule; Notice of administrative change.

SUMMARY: EPA is updating the materials submitted by North Dakota that are incorporated by reference (IBR) into the State Implementation Plan (SIP). The regulations affected by this update have been previously submitted by the Governor of North Dakota and approved by EPA. This update affects the SIP materials that are available for public inspection at the National Archives and Records Administration (NARA), the Air and Radiation Docket and Information Center located at EPA Headquarters in Washington, DC, and the Regional Office.

DATES: Effective Date: This action is effective April 21, 2009.

ADDRESSES: SIP materials which are incorporated by reference into 40 CFR part 52 are available for inspection Monday through Friday, 8 a.m. to 4 p.m., excluding federal holidays, at the Air Program, Environmental Protection Agency (EPA), Region 8, 1595 Wynkoop Street, Denver, Colorado 80202-1129. EPA requests that, if at all possible, you contact the individual listed in the FOR FURTHER INFORMATION CONTACT section to arrange a time to view the hard copy of the North Dakota SIP compilation. An electronic copy of the North Dakota regulations we have approved for incorporation into the SIP are also available by accessing http://www.epa.gov/region8/air/sip.html. A hard copy of the regulatory and source-specific portions of the compilation will also be maintained at the Air and Radiation Docket and Information Center, EPA West Building, Room 3334, 1301 Constitution Ave., NW., Washington, DC 20460 and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

FOR FURTHER INFORMATION CONTACT: Amy Platt, EPA Region 8, at (303) 312-6449, or Platt.Amy@epa.gov.

SUPPLEMENTARY INFORMATION: Throughout this document, wherever “we” or “our” is used it means the EPA.

I. Background

The SIP is a living document that the State revises as necessary to address its unique air pollution problems. Therefore, EPA, from time to time must take action on SIP revisions containing new and/or revised regulations to make them part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register. On March 1, 2007 (72 FR 9263), EPA published a document in the Federal Register beginning the new IBR procedure for North Dakota. Today's action is an update to the March 1, 2007 document.

II. EPA Action

In this document, EPA is doing the following: (1) Announcing an update to the IBR material for North Dakota's revisions to its SIP as of March 1, 2009, including revisions that were approved by EPA on July 19, 2007 (72 FR 39564) and May 27, 2008 (73 FR 30308); and (2) Revising the entries in paragraphs 52.1820(b), (c), (d), and (e) to reflect this update.

III. Good Cause Exemption

EPA has determined that today's action falls under the “good cause” exemption in section 553(b)(3)(B) of the Administrative Procedure Act (APA) which, upon a finding of “good cause,” authorizes agencies to dispense with public participation, and section 553(d)(3), which allows an agency to make a rule effective immediately (thereby avoiding the 30-day delayed effective date otherwise provided for in the APA). Today's rule simply codifies provisions which are already in effect as a matter of law. Under section 553 of the APA, an agency may find good cause where procedures are “impractical, unnecessary, or contrary to the public interest.” Public comment is “unnecessary” and “contrary to the public interest” since the codification only reflects existing law. Likewise, there is no purpose served by delaying the effective date of this action. Immediate notice in the CFR benefits the public by removing outdated citations and incorrect chart entries.

IV. Statutory and Executive Order Review

A. General Requirements

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355, May 22, 2001). Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA.

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This rule also is not subject to Executive Order 13045, “Protection of Children from Environmental Health Risks and Safety Risks” (62 FR 19885, April 23, 1997), because it is not an economically significant regulatory action based on health or safety risks.

This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply reformats the codification of provisions which are already in effect as a matter of law. 5 U.S.C. 808(2). As stated previously, EPA has made such a good cause finding, including the reasons therefore, and established an effective date of April 21, 2009. EPA will submit a report containing this rule and other required information to the U.S. Senate, the U.S. House of Representatives, and the Comptroller General of the United States prior to publication of the rule in the Federal Register. This update to the Identification of plan for North Dakota is not a “major rule” as defined by 5 U.S.C. 804(2).

C. Petitions for Judicial Review

EPA has also determined that the provisions of section 307(b)(1) of the Clean Air Act pertaining to petitions for judicial review are not applicable to this action. Prior EPA rulemaking actions for each individual component of the North Dakota SIP compilation had previously afforded interested parties the opportunity to file a petition for judicial review in the United States Court of Appeals for the appropriate circuit within 60 days of such rulemaking action. Thus, EPA sees no need to reopen the 60-day period for filing such petitions for judicial review for this reorganization of the “Identification of plan” section of 40 CFR 52.1820 for North Dakota.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 31, 2009.
Stephen S. Tuber,
Acting Regional Administrator, Region 8.

Part 52 of chapter I, title 40, Code of Federal Regulations, is amended as follows:

PART 52—[AMENDED]

1. The authority citation for part 52 continues to read as follows:

Authority: 42 U.S.C. 7401 et seq.

Subpart JJ—North Dakota

2. Section 52.1820 is amended by revising paragraphs (b), (c), (d), and (e) to read as follows:

§ 52.1820 Identification of plan.

* * * * *

(b) Incorporation by reference. (1) Material listed in paragraphs (c), (d), and (e) of this section with an EPA approval date prior to March 1, 2009, was approved for incorporation by reference by the Director of the Federal Register in accordance with 5 U.S.C. 552(a) and 1 CFR part 51. Material is incorporated as submitted by the State to EPA, and notice of any change in the material will be published in the Federal Register. Entries for paragraphs (c), (d), and (e) of this section with EPA approval dates after March 1, 2009, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of March 1, 2009.

(3) Copies of the materials incorporated by reference may be inspected at the Environmental Protection Agency, Region 8, 1595 Wynkoop Street, Denver, Colorado, 80202-1129; Air and Radiation Docket and Information Center, EPA West Building, 1301 Constitution Ave., NW., Washington, DC 20460; and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

(c) EPA approved regulations.

State of North Dakota Regulations
State citation | Title/subject | State effective date | EPA approval date and citation ¹ | Explanations
33-15-01 General Provisions
33-15-01-01 | Purpose | 10/1/87 | 5/12/89, 54 FR 20574
33-15-01-02 | Scope | 10/1/87 | 5/12/89, 54 FR 20574
33-15-01-03 | Authority | 9/1/97 | 4/2/04, 69 FR 17302
33-15-01-04 | Definitions | 1/1/07 | 5/27/08, 73 FR 30308
33-15-01-05 | Abbreviations | 1/1/07 | 5/27/08, 73 FR 30308
33-15-01-06 | Entry onto premises—Authority | 10/1/87 | 5/12/89, 54 FR 20574
33-15-01-07 | Variances: Subsection 1 and | 10/1/87 | 5/12/89, 54 FR 20574
| Subsection 2 | 6/1/90 | 6/26/92, 57 FR 28619
33-15-01-08 | Circumvention | 6/1/90 | 6/26/92, 57 FR 28619
33-15-01-09 | Severability | 10/1/87 | 5/12/89, 54 FR 20574
33-15-01-10 | Land use plans and zoning regulations | 10/1/87 | 5/12/89, 54 FR 20574
33-15-01-11 | Reserved | 10/1/87 | 5/12/89, 54 FR 20574
33-15-01-12 | Measurements of emissions of air contaminants | 6/1/01 | 2/28/03, 68 FR 9565
33-15-01-13 | Shutdown and malfunction of an installation—Requirements for notification | 10/1/87 | 5/12/89, 54 FR 20574 | Excluding subsection 2(b) which was subsequently revised and approved. See below.
33-15-01-13.2(b) | Malfunctions | 9/1/97 | 8/27/98, 63 FR 45722
33-15-01-14 | Time schedule for compliance | 10/1/87 | 5/12/89, 54 FR 20574
33-15-01-15 | Prohibition of air pollution | 6/1/01 | 2/28/03, 68 FR 9565
33-15-01-16 | Confidentiality of records | 10/1/87 | 5/12/89, 54 FR 20574
33-15-01-17 | Enforcement | 3/1/03 | 10/21/04, 69 FR 61762
33-15-01-18 | Compliance certifications | 3/1/03 | 10/21/04, 69 FR 61762
33-15-02 Ambient Air Quality Standards
33-15-02-01 | Scope | 10/1/87 | 5/12/89, 54 FR 20574
33-15-02-02 | Purpose | 10/1/87 | 5/12/89, 54 FR 20574
33-15-02-03 | Air quality guidelines | 10/1/87 | 5/12/89, 54 FR 20574
33-15-02-04 | Ambient air quality standards | 9/1/98 | 8/31/99, 64 FR 47395 | See additional interpretive materials cited in 64 FR 47395, 8/31/99.
33-15-02-05 | Method of sampling and analysis | 12/1/94 | 10/8/96, 61 FR 52865
33-15-02-06 | Reference conditions | 10/1/87 | 5/12/89, 54 FR 20574
33-15-02-07 | Concentration of air contaminants in the ambient air restricted | 10/1/87 | 5/12/89, 54 FR 20574 | Excluding subsection 3 and 4 which were subsequently revised and approved. See below.
33-15-02, Table 1 | Ambient Air Quality Standards | 12/1/94 | 10/8/96, 61 FR 52865
33-15-02-07.3 33-15-02-07.4 and 33-15-02, Table 2 | Concentration of air contaminants in the ambient air restricted and National Ambient Air Quality Standards table | 9/1/98 | 8/31/99, 64 FR 47395 | See additional interpretive materials cited in 64 FR 47395, 8/31/99.
33-15-03 Restrictions of Visible Air Contaminants
33-15-03-01 | Restrictions applicable to existing installations | 10/1/87 | 5/12/89, 54 FR 20574
33-15-03-02 | Restrictions applicable to new installations and all incinerators | 10/1/87 | 5/12/89, 54 FR 20574
33-15-03-03 | Restrictions applicable to fugitive emissions | 10/1/87 | 5/12/89, 54 FR 20574
33-15-03-03.1 | Restrictions applicable to flares | 10/1/87 | 5/12/89, 54 FR 20574
33-15-03-04 | Exceptions | 2/1/82 | 11/12/82, 47 FR 51131
33-15-03-05 | Method of measurement | 10/1/87 | 5/12/89, 54 FR 20574
33-15-04 Open Burning Restrictions
33-15-04-01 | Refuse burning restrictions | 1/1/07 | 5/27/08, 73 FR 30308
33-15-04-02 | Permissible open burning | 1/1/96 | 4/21/97, 62 FR 19224 | Excluding subsections 1.b, 1.e, 1.g, and 2.k which were subsequently revised and approved. See below.
33-15-04-02.1.b, 33-15-04-02.1.e, 33-15-04-02.1.g, and 33-15-04-02.2.k. | Permissible open burning | 1/1/07 | 5/27/08, 73 FR 30308
33-15-05 Emissions of Particulate Matter Restricted
33-15-05-01 | Restrictions of emissions of particulate matter from industrial processes | 10/1/87 | 5/12/89, 54 FR 20574
33-15-05-02 | Maximum allowable emission of particulate matter from fuel burning equipment used for indirect heating | 3/1/03 | 10/21/04, 69 FR 61762
33-15-05-03 | Incinerators (repealed) | 8/1/95 | 4/21/97, 62 FR 19224
33-15-05-03.1 | Infectious waste incinerators (repealed) | 7/12/00 | 2/28/03, 68 FR 9565
33-15-05-03.2 | Refuse incinerators | 8/1/95 | 4/21/97, 62 FR 19224
33-15-05-03.3 | Other waste incinerators | 3/1/03 | 10/21/04, 69 FR 61762
33-15-05-04 | Methods of measurement | 3/1/03 | 10/21/04, 69 FR 61762
33-15-06 Emissions of Sulfur Compounds Restricted
33-15-06-01 | Restrictions of emissions of sulfur dioxide from use of fuel | 3/1/03 | 10/21/04, 69 FR 61762 | See additional interpretive materials cited in 63 FR 45722, 8/27/98.
33-15-06-02 | Restriction of emissions of sulfur oxides from industrial processes | 6/1/92 | 10/20/93, 58 FR 54041
33-15-06-03 | Methods of measurement | 3/1/03 | 10/21/04, 69 FR 61762
33-15-06-04 | Continuous emission monitoring requirements | 6/1/92 | 10/20/93, 58 FR 54041
33-15-06-05 | Reporting and recordkeeping requirements | 6/1/92 | 10/20/93, 58 FR 54041
33-15-07 Control of Organic Compounds Emissions
33-15-07-01 | Requirements for construction of organic compounds facilities | 6/1/92 | 8/21/95, 60 FR 43396 | Excluding subsection 1 which was subsequently revised and approved. See below.
33-15-07-01.1 | Scope | 9/1/98 | 8/31/99, 64 FR 47395
33-15-07-02 | Requirements for organic compounds gas disposal | 6/1/92 | 8/21/95, 60 FR 43396
33-15-08 Control of Air Pollution from Vehicles and Other Internal Combustion Engines
33-15-08-01 | Internal combustion engine emissions restricted | 7/1/78 | 11/2/79, 44 FR 63102
33-15-08-02 | Removal or disabling of motor vehicle pollution control devices prohibited | 7/1/78 | 11/2/79, 44 FR 63102
33-15-10 Control of Pesticides
33-15-10-01 | Pesticide use restricted: Subsection 1 and Subsection 2 | 10/1/87 | 5/12/89, 54 FR 20574
|  | 1/1/89 | 8/9/90, 55 FR 32403
33-15-10-02 | Restrictions on the disposal of surplus pesticides and empty pesticide containers | 10/1/87 | 5/12/89, 54 FR 20574 | Excluding subsections 2, 3, 4, and 5 which were subsequently revised and approved. See below.
33-15-10-02.2, 33-15-10-02.3, 33-15-10-02.4 | Restrictions on the disposal of surplus pesticides and empty pesticide containers | 1/1/89 | 8/9/90, 55 FR 32403
33-15-10-02.5 | Restrictions on the disposal of surplus pesticides and empty pesticide containers | 6/1/90 | 6/26/92, 57 FR 28619
33-15-11 Prevention of Air Pollution Emergency Episodes
33-15-11-01 | Air pollution emergency | 10/1/87 | 5/12/89, 54 FR 20574
33-15-11-02 | Air pollution episode criteria | 10/1/87 | 5/12/89, 54 FR 20574
33-15-11-03 | Abatement strategies emission reduction plans | 10/1/87 | 5/12/89, 54 FR 20574
33-15-11-04 | Preplanned abatement strategies plans | 10/1/87 | 5/12/89, 54 FR 20574
33-15-11—Table 6 | Air pollution episode criteria | 8/1/95 | 4/21/97, 62 FR 19224
33-15-11—Table 7 | Abatement strategies emission reduction plans | 8/1/95 | 4/21/97, 62 FR 19224
33-15-14 Designated Air Contaminant Sources, Permit To Construct, Minor Source Permit To Operate, Title V Permit To Operate
33-15-14-01 | Designated air contaminant sources | 8/1/95 | 4/21/97, 62 FR 19224
33-15-14-01.1 | Definitions | 1/1/96 | 4/21/97, 62 FR 19224
33-15-14-02 | Permit to construct | 3/1/94 | 8/21/95, 60 FR 43396 | Excluding subsections 12, 3.c, 13.b.1, 5, 13.c, 13.i(5), 13.o, and 19 (one sentence) which were subsequently revised and approved. See below.
|  |  |  | See additional interpretive materials cited in 57 FR 28619, 6/26/92, regarding the State's commitment to meet the requirements of EPA's “Guideline on Air Quality Models (Revised).”
33-15-14-02.12 | [Reserved] | 8/1/95 & 1/1/96 | 4/21/97, 62 FR 19224 | Moved this section related to fees for Permit to Construct to a new chapter, 33-15-23, Fees.
33-15-14-02.3.c | Alterations to a source | 9/1/98 | 8/31/99, 64 FR 47395 | See additional interpretive materials cited in 64 FR 47395, 8/31/99.
33-15-14-02.13.b.1 | Exemptions | 6/1/01 | 2/28/03, 68 FR 9565
33-15-14-02.5 and 33-15-14-02.13.i(5) | Review of application—Standard for granting permits to construct and Exemptions | 3/1/03 | 8/8/05, 70 FR 45539
33-15-14-02.13.c and 33-15-14-02.13.o | Exemptions | 1/1/07 | 5/27/08, 73 FR 30308
33-15-14-02.19 (one sentence—see explanation) | Amendment of permits | 3/1/03 | 1/24/06, 71 FR 3764 | Only one sentence was revised and approved with this action. That sentence reads: “In the event that the modification would be a major modification as defined in chapter 33-15-15, the department shall follow the procedures established in chapter 33-15-15.” The remainder of subsection 19 was approved on 8/21/95 (60 FR 43396). See above.
33-15-14-03 | Minor source permit to operate | 3/1/94 | 8/21/95, 60 FR 43396 | Excluding subsections 10, 1.c, 4, 5.a(1)(d), 11, and 16 (one sentence) which were subsequently revised and approved. See below. Also see 40 CFR 52.1834.
33-15-14-03.10 | [Reserved] | 8/1/95 & 1/1/96 | 4/21/97, 62 FR 19224 | Moved this section related to fees for Permit to Operate to a new chapter, 33-15-23, Fees.
33-15-14-03.1.c | Permit to operate required | 6/1/01 | 2/28/03, 68 FR 9565
33-15-14-03.4, 33-15-14-03.5.a(1)(d) & 33-15-14-03.11 | Performance testing, Action on applications, and Performance and emission testing | 3/1/03 | 8/8/05, 70 FR 45539
33-15-14-03.16 (One sentence—see explanation) | Amendment of permits | 3/1/03 | 1/24/06, 71 FR 3764 | Only one sentence was revised and approved with this action. That sentence reads: “In the event that the modification would be a major modification as defined in chapter 33-15-15, the department shall follow the procedures established in chapter 33-15-15.” The remainder of subsection 16 was approved on 8/21/95 (60 FR 43396). See above.
33-15-14-04 | Permit fees (repealed) | 3/1/94 | 8/21/95, 60 FR 43396
33-15-14-05 | Common provisions applicable to both permit to construct and permit to operate (repealed) | 3/1/94 | 8/21/95, 60 FR 43396
33-15-14-07 | Source exclusions from title V permit to operate requirements | 6/1/01 | 2/28/03, 68 FR 9565
33-15-15 Prevention of Significant Deterioration of Air Quality
33-15-15-01 | General provisions (repealed) | 2/1/05 | 7/19/07, 72 FR 39564 | See additional interpretive materials cited in 56 FR 12848, 3/28/91, regarding NOx increments and in 57 FR 28619, 6/26/92, regarding the State's commitment to meet the requirements of EPA's “Guideline on Air Quality Models (Revised).”
|  |  |  | Also see 40 CFR 52.1829.
33-15-15-01.1 | Purpose | 2/1/05 | 7/19/07, 72 FR 39564
33-15-15-01.2 | Scope | 2/1/05 | 7/19/07, 72 FR 39564
33-15-15-02 | Reclassification | 2/1/05 | 7/19/07, 72 FR 39564
33-15-17 Restriction of Fugitive Emissions
33-15-17-01 | General provisions—Applicability and designation of affected facilities | 6/1/01 | 2/28/03, 68 FR 9565
33-15-17-02 | Restriction of fugitive particulate emissions | 1/1/07 | 5/27/08, 73 FR 30308
33-15-17-03 | Reasonable precautions for abating and preventing fugitive particulate emissions | 6/20/78 | 11/2/79, 44 FR 63102
33-15-17-04 | Restriction of fugitive gaseous emissions | 6/20/78 | 11/2/79, 44 FR 63102
33-15-18 Stack Heights
33-15-18-01 | General provisions | 10/1/87 | 11/14/88, 53 FR 45763
33-15-18-02 | Good engineering practice demonstrations | 10/1/87 | 11/14/88, 53 FR 45763
33-15-18-03 | Exemptions | 10/1/87 | 11/14/88, 53 FR 45763
33-15-19 Visibility Protection
33-15-19-01 | General provisions | 10/1/87 | 9/28/88, 53 FR 37757
33-15-19-02 | Review of new major stationary sources and major modifications | 10/1/87 | 9/28/88, 53 FR 37757
33-15-19-03 | Visibility monitoring | 10/1/87 | 9/28/88, 53 FR 37757
33-15-20 Control of Emissions from Oil and Gas Well Production Facilities
33-15-20-01 | General provisions | 6/1/92 | 8/21/95, 60 FR 43396
33-15-20-02 | Registration and reporting requirements | 6/1/92 | 8/21/95, 60 FR 43396
33-15-20-03 | Prevention of significant deterioration applicability and source information requirements | 6/1/92 | 8/21/95, 60 FR 43396
33-15-20-04 | Requirements for control of production facility emissions | 6/1/90 | 6/26/92, 57 FR 28619
33-15-23 Fees
33-15-23-01 | Definitions | 8/1/95 | 4/21/97, 62 FR 19224
33-15-23-02 | Permit to construct fees | 8/1/95 | 4/21/97, 62 FR 19224
33-15-23-03 | Minor source permit to operate fees | 8/1/95 | 4/21/97, 62 FR 19224
¹ In order to determine the EPA effective date for a specific provision listed in this table, consult the Federal Register notice cited in this column for the particular provision.

(d) EPA-approved source-specific requirements.

Name of source | Nature of requirement | State effective date | EPA approval date and citation ² | Explanations
Leland Olds Station Units 1 & 2 | SIP Chapter 8, Section 8.3, Continuous | 5/6/77 | 10/17/77, 42 FR 55471.
Milton R. Young Unit 1 Heskett Station Units 1 & 2 Stanton Station Unit 1 American Crystal Sugar at Drayton | Emission Monitoring Requirements for Existing Stationary Sources, including amendments to Permits to Operate and Department Order
Tesoro Mandan Refinery | SIP Chapter 8, Section 8.3.1, Continuous Opacity Monitoring for Fluid Bed Catalytic Cracking Units: Tesoro Refining and Marketing Co., Mandan Refinery | 2/27/07 | 5/27/08, 73 FR 30308.
² In order to determine the EPA effective date for a specific provision listed in this table, consult the Federal Register notice cited in this column for the particular provision.

(e) EPA-approved nonregulatory provisions

Name of nonregulatory SIP provision | Applicable geographic or non-attainment area | State submittal date/Adopted date | EPA approval date and citation ³ | Explanations
(1) Implementation Plan for the Control of Air Pollution for the State of North Dakota | Statewide | Submitted: 1/24/72; Adopted: 1/24/72; Clarification submitted: 6/14/73, 2/19/74, 6/26/74, 11/21/74, 4/23/75 | 5/31/72, 37 FR 10842; with all clarifications on 3/2/76, 41 FR 8956 | Excluding subsequent revisions, as follows: Chapters 6, 11, and 12 and Sections 2.11, 3.2.1, 3.7, 5.2.1, 6.10, 6.11, 6.13, 8.3, and 8.3.1. Revisions to these non-regulatory provisions have subsequently been approved. See below.
Chapters:
1. Introduction
2. Legal Authority
3. Control Strategy
4. Compliance Schedule
5. Prevention of Air Pollution Emergency Episodes
7. Review of New Sources and Modifications
8. Source Surveillance
9. Resources
10. Inter-governmental Cooperation
11. Rules and Regulations
With subsequent revisions to the chapters as follows:
(2) Revisions to SIP Chapter 8, Section 8.3 |  | Submitted: 5/26/77 | 10/17/77, 42 FR 55471
(3) Revisions to SIP Chapter 2, Section 2.11 |  | Submitted: 1/17/80 | 8/12/80, 45 FR 53475
(4) SIP Chapter 6, Air Quality Surveillance |  | Submitted: 1/17/80 | 8/12/80, 45 FR 53475
(5) Revisions to SIP Chapter 6, Section 6.10 |  | Submitted: 1/26/88 | 9/28/88, 53 FR 37757
(6) Revisions to SIP Chapter 3, Section 3.7 |  | Submitted: 4/18/89 | 10/5/89, 54 FR 41094
(7) Revisions to SIP Chapter 3, Section 3.2.1 |  | Submitted: 4/18/89 | 8/9/90, 55 FR 32403
(8) Revisions to SIP Chapter 5, Section 5.2.1 |  | Submitted: 4/18/89 | 8/9/90, 55FR 32403
(9) Revisions to SIP Chapter 6, Section 6.11 |  | Submitted: 4/18/89 | 8/9/90, 55 FR 32403
(10) Revisions to SIP Chapter 6, Section 6.13 |  | Submitted: 1/9/96 | 4/21/97, 62 FR 19224
(11) Revisions to Chapter 11, Rules & Regulations |  |  |  | See the table listed above under § 52.1820(c)(1) for most current version of EPA-approved North Dakota regulations.
(12) SIP to meet Air Quality Monitoring 40 CFR part 58, subpart c, paragraph 58.20 and public notification required under section 127 of the Clean Air Act | Statewide | Submitted: 1/17/80 | 8/12/80, 45 FR 53475
(13) Stack Height Demonstration Analysis | Statewide | Submitted: 4/18/86 and 7/21/87 | 6/7/89, 54 FR 24334
(14) Visibility New Source Review and Visibility Monitoring | Statewide | Submitted: 1/26/88 | 9/28/88, 53 FR 37757
(15) Commitment to revise stack height rules in response to NRDC v. Thomas, 838 F.2d 1224 (DC Cir. 1988) | Statewide | Submitted: 5/11/88 | 11/14/88, 53 FR 45763 | See also 40 CFR 52.1832.
(16) Visibility General Plan and Long-term Strategy | Statewide | Submitted: 4/18/89 | 10/5/89, 54 FR 41094 | See also 40 CFR 52.1831.
(17) Group III PM10 SIP | Statewide | Submitted: 4/18/89 | 8/9/90, 55 FR 32403 | See additional interpretive materials cited in 55 FR 32403, 8/9/90.
(18) Commitment to meet all requirements of EPA's Guideline on Air Quality Models (revised) for air quality modeling demonstrations associated with the permitting of new PSD sources, PSD major modifications, and sources to be located in nonattainment areas | Statewide | Submitted: 2/14/92 | 6/26/92, 57 FR 28619 | See additional interpretive materials cited in 57 FR 28619, 6/26/92. Also see 40 CFR 52.1824.
(19) Small Business Assistance Program (SIP Chapter 12) | Statewide | Submitted: 11/2/92 and 1/18/93 | 1/11/94, 59 FR 1485 | See additional interpretive materials cited in 59 FR 1485, 1/11/94.
(20) Revisions to SIP Chapter 8, Section 8.3.1 |  | Submitted: 3/8/07 | 5/27/08, 73 FR 30308
³ In order to determine the EPA effective date for a specific provision listed in this table, consult the Federal Register notice cited in this column for the particular provision.

[FR Doc. E9-9020 Filed 4-20-09; 8:45 am]

BILLING CODE 6560-50-P